EXPORT-IMPORT BANK OF THE UNITED STATES

[Public Notice: 2013-6008]

Agency Information Collection Activities: Comment Request

AGENCY: Export-Import Bank of the United States.

ACTION: Submission for OMB review and comments request.

Form Title: EIB 92-51 Application for Special Buyer Credit Limit Under the Multi-Buyer Export Credit Insurance Policy

SUMMARY: The Export-Import Bank of the United States (Ex-Im Bank), as a part of its continuing effort to reduce paperwork and respondent burden, invites the general public and other Federal Agencies to comment on the proposed information collection, as required by the Paperwork Reduction Act of 1995.

The Application for Special Buyer Credit Limit under the Multi-Buyer Export Credit Insurance Policy is used by policyholders, the majority of whom are U.S. small businesses, who export U.S. goods and services. This application provides Ex-Im Bank with the credit information necessary to make a determination of eligibility of a transaction for Ex-Im Bank support with a foreign buyer credit request and to obtain legislatively required assurance of repayment and fulfills other statutory requirements.

The application can be reviewed at: http://www.exim.gov/pub/pending/eib9251_2-14-13.pdf Application for Special Buyer Credit Limit Multi-buyer Credit Insurance Policy.

DATES: Comments should be received on or before March 3, 2014 to be assured of consideration.

ADDRESSES: Comments may be submitted electronically on WWW.REGULATIONS.GOV or by mail to Jean Fitzgibbon, Export-Import Bank of the United States, 811 Vermont Ave. NW., Washington, DC 20571.

SUPPLEMENTARY INFORMATION:

Titles and Form Number: EIB 92-51 Application for Special buyer credit Limit Multi-buyer Credit Insurance Policy.

OMB Number: 3048-0015.

Type of Review: Regular.

Need and Use: The information requested enables the applicant to provide Ex-Im Bank with the information necessary to obtain legislatively required assurance of repayment and fulfills other statutory requirements.

This form has been reorganized to present the information in a more logical manner. Additionally, questions related to the goods and/or services being exported have been removed as Ex-Im Bank already has that information. Two general questions, questions about the export sale, and questions about the applicant's experience with the proposed buyer have been added to the application form. In order to reduce the burden impact on the applicant, many of the questions have been presented as Yes/No or check box questions. Including these questions in the application form will remove the need for Ex-Im Bank to contact the applicant for additional information after the application has been submitted.

Affected Public

This form affects entities involved in the export of U.S. goods and services.

The number of respondents: 3,400.

Estimated time per respondents: 35 minutes.

The frequency of response: Annually.

Annual hour burden: 1,983 total hours.

Government Expenses

Reviewing time per hour: 1 hour.

Responses per year: 3,400.

Reviewing time per year: 3,400 hours.

Average wages per hour: $42.50.

Average cost per year: (time * wages) $144,500.

Benefits and overhead: 20%.

Total Government Cost: $173,400.

Alla Lake,
Agency Clearance Officer, Acting, Office of the Chief Information Officer.

[FR Doc. 2013-31409 Filed 12-31-13; 8:45 am]

BILLING CODE 6690-01-P